DEPARTMENT OF ENERGY

Federal Energy Regulatory Commission

[Project No. 2621-009]

Lockhart Power Company; Notice of Application Tendered for Filing With the Commission and Soliciting Additional Study Requests, and Establishing Procedural Schedule for Relicensing and a Deadline for Submission of Final Amendments

November 24, 2009.

Take notice that the following hydroelectric application has been filed with the Commission and is available for public inspection.

a. Type of Application: New Major License.

b. Project No.: 2621-009.

c. Date Filed: November 16, 2009.

d. Applicant: Lockhart Power Company.

e. Name of Project: Pacolet Hydroelectric Project.

f. Location: The existing project is located on the Pacolet River in Spartanburg County, South Carolina. The project does not affect Federal lands.

g. Filed Pursuant to: Federal Power Act 16 U.S.C. 791(a)-825(r).

h. Applicant Contact: Brian D. Stone, Chief Operating Officer, Lockhart Power Company, P.O. Box 10, 420 River Street, Lockhart, SC 29364; Telephone (864) 545-2211.

i. FERC Contact: Lee Emery, (202) 502-8379, or via e-mail at Lee.Emery@ferc.gov.

j. Cooperating Agencies: Federal, State, local, and tribal agencies with jurisdiction and/or special expertise with respect to environmental issues that wish to cooperate in the preparation of the environmental document should follow the instructions for filing such requests in item l below. Cooperating agencies should note the Commission's policy that agencies that cooperate in the preparation of the environmental document cannot also intervene. See, 94 FERC ¶ 61,076 (2001).

k. Pursuant to Section 4.32(b)(7) of 18 CFR of the Commission's regulations, if any resource agency, Indian Tribe, or person believes that an additional scientific study should be conducted to form an adequate factual basis for complete analysis of the application on its merit, the resource, Indian Tribe, or person must file a request for a study with the Commission not later than 60 days from the date of filing of the application, and serve a copy of the request on the applicant.

l. Deadline for filing additional study requests and requests for cooperating agency status: January 15, 2010.

Additional study requests and requests for cooperating agency status may be filed electronically via the Internet. See 18 CFR 385.2001(a)(1)(iii) and the instructions on the Commission's Web site (http://www.ferc.gov/docs-filing/ferconline.asp) under the “e-Filing” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

m. This application is not ready for environmental analysis at this time.

n. Project Description: The proposed Pacolet Hydroelectric Project would consist of two developments with a total installed capacity of 1,900 kilowatts (kW). The project would produce an estimated 8,100,000 kilowatt-hours annually. The electricity produced by the project would be sold to Lockhart Power Company's customers.

The upper development would include the following existing and proposed facilities: (1) An existing 18-foot high, 315-foot-long concrete gravity dam with proposed three-foot-high flashboards; (2) an existing 30-acre reservoir, with a useable storage capacity of 90 acre-feet; (3) a proposed 36-foot-wide intake that would be equipped with trashracks having a 1.375-inch clear bar spacing; (4) a proposed 24- by 40-foot concrete powerhouse, containing a vertical Kaplan turbine with an estimated hydraulic capacity of 550 cubic feet per second (cfs) and an estimated generating capacity of 1,100 kW; (5) a proposed tailrace; (6) a proposed 1,000-foot-long, 34.5 kilovolt (kV) transmission line; (7) a proposed switchyard with storage warehouse; and (8) appurtenant facilities.

The lower development includes the following constructed facilities: (1) A 24-foot-high, 347-foot-long, concrete gravity dam with 4-foot-high flashboards; (2) an 11-acre impoundment, with a useable storage capacity of 44 acre-feet; (3) an intake structure, equipped with trashracks having 1.375-inch clear bar spacing; (4) a 67-foot-long by 32-foot-wide concrete powerhouse, containing two vertical turbines with each having a maximum hydraulic capacity of 225 cfs and being directly connected to a 400-kW generator unit; (5) a tailrace with training wall; (6) an approximately 450-foot-long bypassed reach; (7) a 250-foot-long, 34.5-kV transmission line; (8) a switchyard containing a storage warehouse and three transformers; and (9) appurtenant facilities.

Both developments would be operated in a modified run-of-river mode, where water levels in each reservoir would be maintained within 0.1-inch from the top of the flash boards, except during peak generation periods when water levels could drop 3 to 4 feet below the crest of the dam, depending on the development. The applicant proposes to release a minimum flow from the lower development that equals leakage from the dam (seasonally ranging from 22 to 49 cfs). Since the tailrace of the upper development discharges directly into the lower development's reservoir, no minimum flow is proposed for the upper development.

o. A copy of the application is available for review at the Commission in the Public Reference Room or may be viewed on the Commission's Web site at http://www.ferc.gov, using the “eLibrary” link. Enter the docket number excluding the last three digits in the docket number field to access the document. For assistance, contact FERC Online Support. A copy is also available for inspection and reproduction at the address in item (h) above.

You may also register online at http://www.ferc.gov/docs-filing/esubscription.asp to be notified via e-mail of new filings and issuances related to this or other pending projects. For assistance, contact FERC Online Support.

p. With this notice, we are initiating consultation with the South Carolina State Historic Preservation Officer (SHPO), as required by § 106, National Historic Preservation Act, and the regulations of the Advisory Council on Historic Preservation, 36 CFR, at § 800.4.

q. Procedural Schedule: The application will be processed according to the following Hydro Licensing Schedule. Revisions to the schedule will be made as appropriate.

Milestone | Target date
Issue Deficiency Letter | December 18, 2009.
Issue Scoping Document | December 18, 2009.
Request Additional Information | January 22, 2010.
Notice of Acceptance | March 26, 2010.
Notice of Application Ready for Environmental Analysis | March 26, 2010.
Filing of recommendations, preliminary terms and conditions, and fishway prescriptions | May 25, 2010.
Commission issues Non-Draft EA or EIS | September 22, 2010.
Comments on EA or EIS | October 22, 2010.

Final amendments to the application must be filed with the Commission no later than 30 days from the issuance date of the notice of ready for environmental analysis.

Kimberly D. Bose,
Secretary.

[FR Doc. E9-28794 Filed 12-1-09; 8:45 am]

BILLING CODE 6717-01-P